DEPARTMENT OF ENERGY

Federal Energy Regulatory Commission

Combined Notice of Filings #1

October 9, 2008.

Take notice that the Commission received the following electric corporate filings:

Docket Numbers: EC09-2-000.

Applicants: Black Hills Wyoming, Inc.

Description: Black Hills Wyoming Inc submits an application for approval for transaction to sell a 23.5% undivided ownership interest in an electric generating facility etc.

Filed Date: 10/06/2008.

Accession Number: 20081008-0154.

Comment Date: 5 p.m. Eastern Time on Monday, October 27, 2008.

Take notice that the Commission received the following electric rate filings:

Docket Numbers: ER01-1071-012; ER06-9-007; ER05-1281-007; ER03-34-011; ER06-1261-006; ER03-1104-008; ER03-1105-008; ER06-1392-005; ER08-197-005; ER07-904-003; ER98-3566-017; ER98-4222-013; ER98-2076-015; ER08-250-002; ER07-174-006.

Applicants: Badger Windpower, LLC; FPL Energy Burleigh County Wind, LLC; FPL Energy Duane Arnold, LLC; FPL Energy Hancock County Wind, LLC; FPL Energy Mower County, LLC; FPL Energy North Dakota Wind, LLC; FPL Energy North Dakota Wind II, LLC; FPL Energy Oliver Wind, LLC; FPL Energy Oliver Wind II, LLC; FPL Energy Point Beach, LLC; FPL Energy Power Marketing, Inc.; Hawkeye Power Partners, LLC; Lake Benton Power Partners II, LLC; Langdon Wind, LLC; Osceola Windpower, LLC

Description: Notice of Non-Material Change in Status of Badger Windpower, LLC et al. under ER01-1071, et al.

Filed Date: 10/08/2008.

Accession Number: 20081008-5085.

Comment Date: 5 p.m. Eastern Time on Wednesday, October 29, 2008.

Docket Numbers: ER06-274-013; EL05-151-004.

Applicants: Southwestern Public Service Company.

Description: Southwestern Public Service Company et al. submits an executed Amendment 1 to Settlement Agreement with Public Service Company of New Mexico under ER06-274 et al.

Filed Date: 10/06/2008.

Accession Number: 20081008-0135.

Comment Date: 5 p.m. Eastern Time on Monday, October 27, 2008.

Docket Numbers: ER08-1393-001.

Applicants: PJM Interconnection, L.L.C.

Description: PJM Interconnection, LLC submits revisions to the Amended and Restated Operating Agreement under ER08-1393.

Filed Date: 10/08/2008.

Accession Number: 20081009-0097.

Comment Date: 5 p.m. Eastern Time on Wednesday, October 29, 2008.

Docket Numbers: ER08-1523-001.

Applicants: Coburn Energy, LLC.

Description: Coburn Energy LLC submits a Petition for Acceptance of Initial Tariff, Waivers and Blanket Authority under ER08-1523.

Filed Date: 10/08/2008.

Accession Number: 20081009-0096.

Comment Date: 5 p.m. Eastern Time on Wednesday, October 29, 2008.

Docket Numbers: ER08-1571-000.

Applicants: Bridgeport Energy II, LLC.

Description: Bridgeport Energy II, LLC Motion to Withdraw Filing under ER08-1571-000.

Filed Date: 10/09/2008.

Accession Number: 20081009-5011.

Comment Date: 5 p.m. Eastern Time on Thursday, October 30, 2008.

Docket Numbers: ER09-20-000.

Applicants: Dynegy Marketing and Trade.

Description: Dynegy Marketing and Trade submits an application for market-based rate authorization under Section 205 of the Federal Power Act and request for waivers and blanket authorizations.

Filed Date: 10/06/2008.

Accession Number: 20081008-0158.

Comment Date: 5 p.m. Eastern Time on Monday, October 27, 2008.

Docket Numbers: ER09-30-000.

Applicants: Elm Creek Wind, LLC.

Description: Application of Elm Creek Wind, LLC for order accepting initial tariff (FERC Electric Tariff, Original Volume 1), waiving regulations, and granting blanket approvals, including blanket approval under 18 CFR Part 34 etc.

Filed Date: 10/06/2008.

Accession Number: 20081008-0141.

Comment Date: 5 p.m. Eastern Time on Monday, October 27, 2008.

Docket Numbers: ER09-31-000.

Applicants: Farmers City Wind, LLC.

Description: Application of Farmers City Wind, LLC for order acceptintg initial tariff, waiving regulations, and granting blanket approvals etc. under ER09-31.

Filed Date: 10/06/2008.

Accession Number: 20081008-0138.

Comment Date: 5 p.m. Eastern Time on Monday, October 27, 2008.

Docket Numbers: ER09-33-000.

Applicants: MidAmerican Energy Company.

Description: Barton Windpower II, LLC requests acceptance of FERC Electric Tariff, Original Volume 1.

Filed Date: 10/06/2008.

Accession Number: 20081008-0140.

Comment Date: 5 p.m. Eastern Time on Monday, October 27, 2008.

Docket Numbers: ER09-37-000.

Applicants: ISO New England Inc.

Description: ISO New England Inc et al. submits their compliance filing with FERC's Order 890-B under ER09-37.

Filed Date: 10/06/2008.

Accession Number: 20081008-0134.

Comment Date: 5 p.m. Eastern Time on Monday, October 27, 2008.

Take notice that the Commission received the following open access transmission tariff filings:

Docket Numbers: OA07-107-001.

Applicants: Tucson Electric Power Company.

Description: Tucson Electric Power Company supplements its Attachment C Compliance Filing made on 4/23/08 under OA07-107.

Filed Date: 10/06/2008.

Accession Number: 20081008-0198.

Comment Date: 5 p.m. Eastern Time on Monday, October 27, 2008.

Docket Numbers: OA08-20-001.

Applicants: Tampa Electric Company.

Description: Tampa Electric Company submits Second Revised Sheet 116 et al. to FERC Electric Tariff, Third Revised Volume 4 for inclusion in their open access transmission tariff as directed by the Commission's 7/9/08 Order under OA08-20.

Filed Date: 10/07/2008.

Accession Number: 20081009-0042.

Comment Date: 5 p.m. Eastern Time on Tuesday, October 28, 2008.

Docket Numbers: OA09-3-000.

Applicants: New York Independent System Operator, Inc.

Description: New York Independent System Operator, Inc submits Sixth Revised Sheet 39 et al. to FERC Electric Tariff, Original Volume 1 in Compliance with FERC's Order 890-B under OA09-3.

Filed Date: 10/06/2008.

Accession Number: 20081008-0137.

Comment Date: 5 p.m. Eastern Time on Monday, October 27, 2008.

Docket Numbers: OA09-5-000.

Applicants: Southwest Power Pool, Inc.

Description: Southwest Power Pool, Inc submits revisions to its Open Access Transmission Tariff incorporating specific changes to the Order 890 pro forma OATT etc. under OA09-5.

Filed Date: 10/06/2008.

Accession Number: 20081008-0136.

Comment Date: 5 p.m. Eastern Time on Monday, October 27, 2008.

Docket Numbers: OA09-7-000.

Applicants: Midwest Independent Transmission System.

Description: Midwest Independent Transmission System Operator submits their compliance filing revising the non-rate terms and conditions of their Open Access Transmission and Energy Markets Tariff pursuant to Order 890-B under OA09-7.

Filed Date: 10/06/2008.

Accession Number: 20081008-0132.

Comment Date: 5 p.m. Eastern Time on Monday, October 27, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-24636 Filed 10-16-08; 8:45 am]

BILLING CODE 6717-01-P